DEPARTMENT OF TRANSPORTATION

Federal Aviation Administration

Public Notice for Intent To Release Airport Property

AGENCY: Federal Aviation Administration (FAA), DOT.

ACTION: Notice of intent to rule on request to release airport property for non-aeronautical use; Kenai Municipal Airport (ENA), Kenai, Alaska.

SUMMARY: The FAA proposes to rule and invites public comment on the release of airport property at the Kenai Municipal Airport, Kenai, Alaska.

DATES: Comments must be received on or before September 8, 2025.

ADDRESSES: Documents are available for review by appointment at the FAA Anchorage Airports Regional Office, Molly Fierro, Compliance Manager, 222 W 7th Avenue, Anchorage, AK. Telephone: (907) 271-5439/Fax: (907) 271-2851 and the Kenai Municipal Airport, 305 N Willow, Suite 200, Kenai, Alaska 99611. Telephone: (907) 283-7951.

Written comments on the Sponsor's request must be delivered or mailed to: Molly Fierro, Compliance Manager, Federal Aviation Administration, Airports Anchorage Regional Office, 222 W 7th Avenue, Anchorage AK 99513, Telephone Number: (907) 271-5439/FAX Number: (907) 271-2851.

FOR FURTHER INFORMATION CONTACT: Molly Fierro, Compliance Manager, Federal Aviation Administration, Alaskan Region Airports District Office, 222 W 7th Avenue, Anchorage, AK 99513. Telephone Number: (907) 271-5439/FAX Number: (907) 271-2851.

SUPPLEMENTARY INFORMATION: The FAA invites public comment on the request to either sell in fee, or release the aeronautical use only grant provision, for about 81 acres of Kenai Airport property north of Kenai Spur Highway and east of Marathon Road under the provisions of 49 U.S.C. 47107(h)(2). The FAA has determined that the release of the property will not likely adversely impact future aviation needs at the airport. The FAA may approve the request, in whole or in part, no sooner than 30 days after the publication of this notice.

The disposition of proceeds from the non-aeronautical use of the airport property will be in accordance with FAA's Policy and Procedures Concerning the Use of Airport Revenue, published in the Federal Register on February 16, 1999 (64 FR 7696).

Issued in Anchorage, Alaska, on August 5, 2025.
Katrina C. Moss,
Acting Director, FAA Alaskan Region Airports Division.

[FR Doc. 2025-15059 Filed 8-7-25; 8:45 am]

BILLING CODE 4910-13-P